DEPARTMENT OF HEALTH AND HUMAN SERVICES

Centers for Disease Control and Prevention

Notice of Award of a Single-Source Cooperative Agreement To Fund the World Health Organization (WHO)

AGENCY: Centers for Disease Control and Prevention (CDC), Department of Health and Human Services (HHS).

ACTION: Notice.

SUMMARY: The Centers for Disease Control and Prevention (CDC), located within the Department of Health and Human Services (HHS), announces the award of approximately $375,000 with an expected total funding of $1,875,000 over a five-year period to the World Health Organization (WHO) to support activities that promote the development of data systems to monitor injuries and violence; and to implement and evaluate evidence-based strategies to prevent and control injuries and violence.

DATES: The period for this award will be September 1, 2022, through August 31, 2027.

FOR FURTHER INFORMATION CONTACT: Ericka Lowe Marvin, National Center for Injury Prevention and Control, Centers for Disease Control and Prevention, 4770 Buford Highway, MS S106-10, Atlanta, GA 30341, Telephone: 800-232-6348, email: ERL2@cdc.gov.

SUPPLEMENTARY INFORMATION: Both injuries and violence are leading causes of death around the world. These deaths occur due to road traffic crashes, falls, drownings, other unintentional injuries, and from acts of interpersonal violence. However, this represents a fraction of the problem, as tens of millions more suffer injuries that lead to hospitalization or other medical care. Many of those who survive injuries are left with temporary or permanent disabilities. Additionally, victims of physical, sexual, and emotional abuse suffer from a range of chronic conditions, diseases, and mental health problems throughout their lifetimes. The objective of this award is to continue to raise awareness of these issues; measure the scope of the problem; and implement evidence-based solutions that will be relevant for violence and injury prevention efforts globally, including the United States.

WHO is in a unique position to conduct this work, as it is responsible for providing leadership on global health matters, shaping the health research agenda, articulating evidence-based policy options, providing technical support to countries, and monitoring and assessing health trends. WHO is the directing and coordinating authority for health within the United Nations. As a UN agency, it has a relationship with many national governments, which allows access to vital records and other governmental surveillance systems. Additionally, WHO has access to government staff who would conduct training related to violence and injury prevention nationally. The WHO has a mandate under a variety of UN General Assembly and World Health Assembly Resolutions to coordinate the efforts of UN agencies to work together to prevent injuries and violence in developing countries.

Summary of the Award

Recipient: World Health Organization (WHO).

Purpose of the Award: The purpose of this award is to support activities that promote the development of data systems to monitor injuries and violence; and to implement and evaluate evidence-based, comprehensive strategies to prevent and control injuries and violence.

Amount of Award: $375,000 in Federal Fiscal Year (FFY) 2022 funds, and a total of $1,875,000 for a five-year period of performance, subject to availability of funds.

Authority: This program is authorized under sections 301(a) and 391(a) of the Public Health Service Act [42 U.S.C. 241(a) and 280b (a)], as amended, and Section 392(b)(2) of the Public Health Service Act [42 U.S.C. 280b-1 (b) (2).

Period of Performance: September 1, 2022 through August 31, 2027.

Dated: November 19, 2021.
Terrance Perry,
Chief Grants Management Officer, Centers for Disease Control and Prevention.

[FR Doc. 2021-25765 Filed 11-24-21; 8:45 am]

BILLING CODE 4163-18-P